DEPARTMENT OF HEALTH AND HUMAN SERVICES

Centers for Disease Control and Prevention

[Docket Number CDC-2016-0020, NIOSH-289]

Issuance of Final Publication: National Institute for Occupational Safety and Health (NIOSH) Quality Assurance Review of B Readers' Classifications Submitted in the Department of Labor (DOL) Black Lung Benefits Program

AGENCY: National Institute for Occupational Safety and Health (NIOSH) of the Centers for Disease Control and Prevention (CDC), Department of Health and Human Services (HHS).

ACTION: Notice of issuance of final publication.

SUMMARY: The National Institute for Occupational Safety and Health (NIOSH) of the Centers for Disease Control and Prevention (CDC) announces the availability of the following publication: National Institute for Occupational Safety and Health (NIOSH) Quality Assurance Review of B Readers' Classifications Submitted in the Department of Labor (DOL) Black Lung Benefits Program.

ADDRESSES: The document may be obtained at the following link: http://www.cdc.gov/niosh/topics/chestradiography/breader-blacklung-benefits-qa-program.html.

FOR FURTHER INFORMATION CONTACT: Dr. Eileen Storey, NIOSH, Respiratory Health Division, Surveillance Branch, 1095 Willowdale Road, Morgantown, WV 26505. Telephone (304) 285-5754 (this is not a toll-free number).

Dated: June 30, 2016.
Frank Hearl,
Chief of Staff, National Institute for Occupational Safety and Health, Centers for Disease Control and Prevention.

[FR Doc. 2016-15978 Filed 7-5-16; 8:45 am]

BILLING CODE 4163-19-P